DEPARTMENT OF COMMERCE

Census Bureau

Agency Information Collection Activities; Submission to the Office of Management and Budget (OMB) for Review and Approval; Comment Request; Small Business Pulse Survey

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 19, 2020 during a 60-day comment period. This notice allows for an additional 30 days for public comments.

Agency: U.S. Census Bureau.

Title: Small Business Pulse Survey.

OMB Control Number: 0607-1014.

Form Number(s): None.

Type of Request: Regular Submission, Request for a Revision of a Currently Approved Collection.

Number of Respondents: 738,000 (We anticipate receiving 20,500 responses per week for up to 36 weeks of collection each year).

Average Hours per Response: 6 minutes.

Burden Hours: 73,920 (73,800 + 120 hours for cognitive testing).

Needs and Uses: On April 22, 2020, the Office of Management and Budget authorized clearance of an emergency Information Collection Request (ICR) to the U.S. Department of Commerce, U.S. Census Bureau to conduct the Small Business Pulse Survey. The emergency clearance enabled the Census Bureau to collect urgently needed data on the experiences of American small businesses as the coronavirus pandemic prompted business and school closures and widespread stay-at-home orders.

The emergency clearance for the Small Business Pulse Survey will expire on October 31, 2020. In anticipation of a continuing need for Small Business Pulse Survey data, the Census Bureau is putting forward this request through normal (non-emergency) clearance channels for the purposes of continuing the survey beyond the emergency clearance expiration.

The continuation of the Small Business Pulse Survey is responsive to stakeholder requests for high frequency data that measure the effect of changing business conditions during the Coronavirus pandemic on small businesses. While the ongoing monthly and quarterly economic indicator programs provide estimates of dollar volume outputs for employer businesses of all size, the Small Business Pulse Survey captures the effects of the pandemic on operations and finances of small, single location employer businesses. As the pandemic continues, the Census Bureau is best poised to collect this information from a large and diverse sample of small businesses.

It is hard to know a priori when a shock will result in economic activity changing at a weekly, bi-weekly, or monthly frequency. Early in the pandemic, federal, state, and local policies were moving quickly so it made sense to have a weekly collection. The problem is that while we are in the moment, we cannot accurately forecast the likelihood of policy action. In addition, we are not able to forecast a change in the underlying cause of policy actions: The effect of the Coronavirus pandemic on the economy. We cannot predict changes in the severity of the pandemic (e.g., will it worsen in flu season?) nor future developments that will alleviate the pandemic (e.g., vaccines or treatments). In a period of such high uncertainty, the impossibility of forecasting these inflection points underscore the benefits of having a weekly survey. For these reasons, the Census Bureau will proceed with a weekly collection.

For the purposes of referencing prior ICRs, we refer to the initial approval by OMB to conduct the Small Business Pulse Survey as “Phase 1” (April-June 2020), and the second approved clearance as “Phase 2” (August-October, 2020). This ICR requests regular (non-emergency) approval to conduct “Phase 3”, starting November 2020.

Phase 1 of the Small Business Pulse Survey was launched on April 26, 2020 as an effort to produce and disseminate high-frequency, geographic- and industry-detailed experimental data about the economic conditions of small businesses as they experience the coronavirus pandemic. It is a rapid response endeavor that leverages the resources of the federal statistical system to address emergent data needs. Given the rapidly changing dynamics of this situation for American small businesses, the Small Business Pulse Survey has been successful in meeting an acute need for information on changes in revenues, business closings, employment and hours worked, disruptions to supply chains, and expectations for future operations. In addition, the Small Business Pulse Survey provided important estimates of federal program uptake to key survey stakeholders.

In Phase 1, the Census Bureau worked in collaboration with the Bureau of Economic Analysis (BEA), Bureau of Labor Statistics (BLS), Federal Reserve Board (FRB), International Trade Administration (ITA), Minority Business Development Agency (MBDA), and the Small Business Administration (SBA) to develop questionnaire content. Subsequently, the Census Bureau was approached by the Bureau of Transportation Statistics (BTS), National Telecommunications and Information Administration (NTIA), and the Office of Tax Analysis (OTA) with requests to include additional content to the Small Business Pulse Survey for Phase 2. Understanding that information needs are changing as the pandemic continues, the Census Bureau proposed a revised questionnaire to ensure that the data collected continue to be relevant and broadly useful. Also in Phase 2, the Census Bureau refined its strategies for contacting businesses in a clear and effective manner while motivating their continued participation.

Anticipating that businesses will continue to be affected by the pandemic, and as new developments are expected later this year and into 2021 (including the continuation of government assistance programs that target small businesses; policy shifts including the loosening or tightening of restrictions on businesses or customers; changing weather or seasons on businesses that rely on serving customers outdoors; and new research, vaccines, and/or medications or treatments for the coronavirus), the Census Bureau will move forward with a Phase 3 as proposed in this ICR. The questionnaire used in Phase 2 will continue to be used in this next phase. Acknowledging that circumstances may evolve and information needs on specific topics may intensify, change or diminish over time, the Census Bureau may propose revisions to the questionnaire via the Non-Substantive Change process. These plans also will be made available for public comment through notice in the Federal Register.

Phase 3 of the Small Business Pulse Survey will continue in cooperation with other federal agencies to produce near real-time experimental data to understand how changes due to the response to the COVID-19 pandemic are affecting American small businesses and the U.S. economy.

The Phase 3 survey will carry forward questionnaire content from Phase 2. Content has been provided by the Census Bureau, SBA, FRB, MBDA, OTA, BTS, NTIA, and ITA. Domains include business closings, changes in employment and hours, disruptions to supply chain, changes in capacity, finances, and expectations for future operations.

The historical circumstances of the pandemic and uncertainty about how it may or may not continue to affect businesses over the period of Phase 3 drives the need for flexibility in Phase 3 of the SBPS. If required, the Census Bureau would seek approval from OMB through the Non-Substantive Change Review Process to revise, remove or add questionnaire content during this phase to remain relevant in guiding the nation's response and recovery.

All results from the Small Business Pulse Survey will continue to be disseminated as U.S. Census Bureau Experimental Data Products (https://portal.census.gov/pulse/data/). This and additional information on the Small Business Pulse Survey are available to the public on census.gov.

Affected Public: Business or other for-profit organizations.

Frequency: Small business will be selected once to participate in a 6-minute survey.

Respondent's Obligation: Voluntary.

Legal Authority: Title 13 U.S.C., Sections 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1014.

Sheleen Dumas,
Department PRA Clearance Officer, Office of the Chief Information Officer, Commerce Department.

[FR Doc. 2020-21424 Filed 9-28-20; 8:45 am]

BILLING CODE 3510-07-P